DEPARTMENT OF COMMERCE

National Oceanic and Atmospheric Administration

RIN 0648-XF570

Fisheries of the South Atlantic; South Atlantic Fishery Management Council; Public Meetings

AGENCY: National Marine Fisheries Service (NMFS), National Oceanic and Atmospheric Administration (NOAA), Commerce.

ACTION: Notice of meetings of the South Atlantic Fishery Management Council's Citizen Science Advisory Panel Action Teams.

SUMMARY: The South Atlantic Fishery Management Council (Council) will hold five meetings of its Citizen Science Advisory Panel Action Teams via webinar.

DATES: The meetings will be held Friday, August 11, 2017 at 10 a.m. (Communication/Outreach/Education), Monday, August 14 at 1 p.m. (Projects/Topics Management), Monday, August 14 at 6 p.m. (Volunteers), Tuesday, August 15 at 1 p.m. (Data Management), and Monday, August 28 at 1 p.m. (Finance). Each meeting is scheduled to last approximately 75 minutes. Additional Action Team webinar and plenary webinar dates and times will publish in a subsequent issue in the Federal Register.

ADDRESSES:

Meeting address: The meetings will be held via webinar and are open to members of the public. Webinar registration is required and registration links will be posted to the Citizen Science program page of the Council's Web site at www.safmc.net.

Council address: South Atlantic Fishery Management Council, 4055 Faber Place Drive, Suite 201, N. Charleston, SC 29405.

FOR FURTHER INFORMATION CONTACT: Amber Von Harten, Citizen Science Program Manager, SAFMC; phone: (843) 302-8433 or toll free: (866) SAFMC-10; fax: (843) 769-4520; email: amber.vonharten@safmc.net.

SUPPLEMENTARY INFORMATION: The South Atlantic Fishery Management Council (Council) created a Citizen Science Advisory Panel Pool in June 2017. The Council appointed members of the Citizen Science Advisory Panel Pool to five Action Teams in the areas of Volunteers, Data Management, Projects/Topics Management, Finance, and Communication/Outreach/Education to develop program policies and operations for the Council's Citizen Science Program.

Each Action Team will meet to begin work on developing recommendations on program policies and operations to be reviewed by the Council's Citizen Science Committee.

Items to be addressed during these meetings:

1. Appointment of Action Team Chair(s)

2. Review and Prioritization of Terms of Reference

3. Work Plan for Action Team Tasks

4. Schedule of Action Team Webinar Meetings

5. Other Business

Special Accommodations

These meetings are physically accessible to people with disabilities. Requests for auxiliary aids should be directed to the council office (see ADDRESSES) 3 days prior to the meeting.

Note: The times and sequence specified in this agenda are subject to change.

Authority: 16 U.S.C. 1801 et seq.

Dated: July 25, 2017.
Tracey L. Thompson,
Acting Deputy Director, Office of Sustainable Fisheries, National Marine Fisheries Service.

[FR Doc. 2017-15929 Filed 7-27-17; 8:45 am]

BILLING CODE 3510-22-P